DEPARTMENT OF LABOR

Employment and Training Administration

[NAFTA-03325]

Levi Strauss & Company; Amended Certification Regarding Eligibility To Apply for NAFTA Transitional Adjustment Assistance

Texas,

NAFTA-03325A, Harlingen Plant and Texas Commission for the Blind, Harlingen, TX 78550

NAFTA-03325B, Cypress Plant and Judy's Cafeteria, El Paso, TX 79905

NAFTA-03325C, McAllen Plant and Texas Commission for the Blind, McAllen, TX 78504

NAFTA-03325H, Kastrin Plant, including El Paso Digital Imaging Graphics of the El Paso Regional Office, El Paso, TX 79907

NAFTA-03325I, Brownsville Plant, Brownsville, TX 78521

NAFTA-03325J, San Benito Plant, San Benito, TX 78586

NAFTA-03325K, San Antonio Sewing Plant, San Antonio, TX 78227

NAFTA-03325L, San Antonio Finishing Plant including San Antonio Credit Union, San Antonio Finishing Plant, San Antonio, TX 78227

NAFTA-03325P, Richardson Technology Center, Richardson, TX 75081

NAFTA-03325Q, Westlake Data Center, Westlake, TX 76262

NAFTA-03325R, Dallas Customer Fulfillment Regional Office, Dallas, TX 75252

NAFTA-03325Z, Amarillo Finishing Facility, Amarillo, TX 79107

Tennessee

NAFTA-03325D, Johnson City Plant including TRI-Cities Maid (Gary, TN), Johnson City, TN 37605

NAFTA-03325E, Mountain City Plant including Diversco (Spartanburg, SC) and Aramark (Mountain City, TN), Mountain City, TN 37683

NAFTA-03325M, Powell Plant, Powell, TN

NAFTA-03325S, Knoxville Regional Office including Global Fulfillment Services Center and Knoxville Digital Imaging Graphics Department, 1700 Cherry Street, Knoxville, TN 37917

California

NAFTA-03325N, Valencia Sweing Facility, San Francisco, CA 94103

NAFTA-03325T, Levi Strauss & Company Corporate Headquarters, San Francisco, CA 94111

Georgia

NAFTA-033250, Blue Ridge Plant, Blue Ridge, GA 31503

Florida

NAFTA-03325U, Weston Customer Fulfillment Regional Office, Weston, FL 33331

Kentucky

NAFTA-03325V, Florence Customer Service Center, Florence, KY 41042

NAFTA-03325W, Hebron Customer Service Center, Hebron, KY 41048

Mississippi

NAFTA-03325X, Canton Customer Service Center, Canton, MS 39046

Nevada

NAFTA-03325Y, Sky Harbor CSC, Henderson, NV 89012

In accordance with Section 250(a), Subchapter D, Chapter 2, Title II, of the Trade Act of 1974, as amended (19 USC 2273), the Department of Labor issued a Certification of Eligibility to Apply for NAFTA Transitional Adjustment Assistance on August 7, 1997, applicable to workers of Levi Strauss and Company, located in El Paso, Texas. The notice was published in the Federal Register on September 29, 1999 (64 FR 52543). In addition, the Department denied eligibility for an additional eight Levi Strauss & Company facilities in Texas, Tennessee, and California because there had not been threats of employment loss at those facilities. The notice was also published in the Federal Register on September 29, 1999 (64 FR 52542).

The company requested that the seven of the eight facilities (NAFTA-03325H through NAFTA-03325L, and NAFTA-03325N and O) which were previously denied be certified because of reduced work hours at each facility and provided information to indicate that workers had their work hours reduced by at least 20 percent. In addition, the company requested that contractors working full-time at all of the facilities also be included in the certification. The company also requested that an additional eleven facilities and work sites in seven states (Texas, Tennessee, California, Florida, Kentucky, Mississippi, and Nevada) be included as a result of additional layoff announcements.

The intent of the Department's certification is to include all workers of Levi Strauss and Company, including full time contractors working at the identified facilities, who were adversely affected by increased imports of denim and Docker apparel from Mexico.

The amended notice applicable to NAFTA-03325 is hereby issued as follows:

All workers of the following Levi Strauss & Company facilities who became totally or partially separated from employment on or after August 8, 1999 through August 11, 2001 are eligible to apply for NAFTA-TAA under Section 250 of the Trade Act of 1974:

NAFTA-03325 Wichita Falls Plant, Wichita Falls, Texas 76303

NAFTA-03325A Harlingen Plant, including Texas Commission for the Blind, Harlingen, Texas 78550

NAFTA-03325B Cypress Plant, including Judy's Cafeteria, El Paso, Texas 79905

NAFTA-03325C McAllen Plant, including Texas Commission for the Blind, McAllen, Texas 78504

NAFTA-03325D Johnson City Plant, including Tri-Cities Maid (Gary, TN), Johnson City, Tennessee 37605

NAFTA-03325E Mountain City Plan, including Diversco (Spartanburg, SC) and Aramark Mountain City, Tennessee 37683

NAFTA-03325F Warsaw Plant, Warsaw, Virginia 22572

NAFTA-03325G Valdosta Plant, Valdosta, Georgia 31601

NAFTA-03325H Kastrin Plant, Kastrin, Texas 79907

NAFTA-03325I Brownsville Plant, Brownsville, Texas 78521

NAFTA-03325J San Benito Plant, San Benito, Texas 78586

NAFTA-03325K San Antonio Sewing Plant, San Antonio, Texas 78227

NAFTA-03325L San Antonio Finishing Plant, including San Antonio Credit Union, San Antonio Finishing Plant, San Antonio, Texas 78227

NAFTA-03325M Powell Plant, Powell, Tennessee

NAFTA-03325N Valencia Sewing Facility, San Francisco, California 94103

NAFTA-03325O Blue Ridge Plant, Blue Ridge, Georgia 31503

NAFTA-03325P Richardson Technology Center, Richardson, Texas 75081

NAFTA-03325Q Westlake Data Center, Westlake, Texas 76262

NAFTA-03325R Dallas Customer Fulfillment Regional Office, Dallas, Texas 75252

NAFTA-03325S Knoxville Regional Office, including Global Fulfillment Services Center and Knoxville Digital Imaging Graphics Department, 1700 Cherry Street, Knoxville, Tennessee 37917

NAFTA-03325T Levi Strauss & Company Corporate Headquarters, San Francisco, California 94111

NAFTA-03325U Weston Customer Fulfillment Regional Office, Weston, Florida 33331

NAFTA-03325V Florence Customer Service Center, Florence, Kentucky 41042

NAFTA-03325W Hebron Customer Service Center, Hebron, Kentucky 41048

NAFTA-03325X Canton Customer Service Center, Canton, Mississippi 39046

NAFTA-03325Y Sky Harbor CSC, Henderson, Nevada 89012

NAFTA-03325Z Amarillo Finishing Facility, Amarillo, Texas 79107.

Signed in Washington, DC this 1st day of February 2000.
Grant D. Beale,
Program Manager, Division of Trade Adjustment Assistance.

[FR Doc. 00-7117 Filed 3-21-00; 8:45 am]

BILLING CODE 4510-30-M